DEPARTMENT OF HEALTH AND HUMAN SERVICES

Centers for Disease Control and Prevention

Announcement of Requirements and Registration for The REACH Lark Galloway-Gilliam Award for Advancing Health Equity Challenge (REACH Lark Award Challenge)

AGENCY: Centers for Disease Control and Prevention (CDC), Department of Health and Human Services (HHS).

ACTION: Notice.

SUMMARY: The Centers for Disease Control and Prevention (CDC), located within the Department of Health and Human Services (HHS), announces the 2024 Racial and Ethnic Approaches to Community Health (REACH) Lark Galloway-Gilliam for Advancing Health Equity Award Challenge (REACH Lark Award Challenge). This biennial challenge was established in 2019 to recognize extraordinary individuals, organizations, or community coalitions associated with the REACH program whose work has contributed to the implementation of culturally tailored interventions that advance health equity, reduce health disparities, and increase community engagement to address preventable risk behaviors (e.g., tobacco use, poor nutrition, and physical inactivity).

DATES: The Challenge will accept applications from April 29, 2024, through June 21, 2024.

FOR FURTHER INFORMATION CONTACT: Stormie Israel, National Center for Chronic Disease Prevention and Health Promotion, Centers for Disease Control and Prevention, 4770 Buford Hwy., NE, Mailstop S107-5, Atlanta, GA 30341, Telephone: 770-488-2964, Email: dnpaopolicy@cdc.gov.

SUPPLEMENTARY INFORMATION: Racial and ethnic disparities in health remain pervasive across the United States. CDC administers REACH, a national program that provides funding to State and local health departments, tribes, universities, and community-based organizations. Since REACH was established in 1999, the program has demonstrated success in addressing these disparities and advancing health equity by engaging with diverse communities and implementing culturally tailored interventions. For more information about the REACH program, visit https://www.cdc.gov/nccdphp/dnpao/state-local-programs/reach/index.htm.

The intent of this challenge is to recognize individuals, organizations, or community coalitions associated with the REACH program that meaningfully assisted with and carried out culturally tailored interventions that advance health equity, reduce health disparities, and increase community engagement to address preventable risk behaviors (e.g., tobacco use, poor nutrition, physical inactivity, and inadequate access to clinical services) in populations/groups disproportionately affected by chronic disease; including, African American/Black, American Indian or Alaska Native, Asian, Hispanic or Latino, and Native Hawaiian or other Pacific Islander persons. To support the science and practice of improving health equity, this challenge can help further the goals of the REACH program by documenting and further disseminating the innovative or unique interventions employed by individuals, organizations, or community coalitions applying or nominated for this award.

Subject of Challenge Competition: The CDC's National Center for Chronic Disease Prevention and Health Promotion is conducting this Challenge under the America Creating Opportunities to Meaningfully Promote Excellence in Technology, Education, and Science (COMPETES) Reauthorization Act of 2010, as amended (15 U.S.C. 3719).

The “applicant” refers to each individual, organization, or community coalition that submits an application or nomination. The “nominee” refers to each individual or organization/community coalition who is nominated, whether self-nominated or nominated by a separate individual or organization.

Applicants will be asked to respond to a series of questions related to how the nominee assisted with and carried out culturally tailored interventions to advance health equity, reduce health disparities, and increase community engagement to address preventable risk behaviors (e.g., tobacco use, poor nutrition, physical inactivity, and inadequate access to clinical services) in populations or groups disproportionately affected by chronic disease, including African American/Black, American Indian or Alaska Native, Asian, Hispanic or Latino, and Native Hawaiian or other Pacific Islander persons.

Award Approving Official: Mandy K. Cohen, MD, MPH, Director, Centers for Disease Control and Prevention, and Administrator, Agency for Toxic Substances and Disease Registry.

Eligibility Rules for Participating in the Challenge

The REACH Lark Award Challenge is open to the public. To be eligible for this award, nominees must meet the following eligibility requirements:

(1) Shall have completed the application (for self-nominees) or have had an application submitted on their behalf (for those nominated by others) for the competition under the rules promulgated by HHS/CDC;

(2) Shall have complied with all the requirements under this section and satisfy one of the following requirements:

a. Be a currently or previously funded CDC REACH recipient that has not previously received the REACH Lark Award in any year; or

b. Be a technical assistance provider to a former or current REACH recipient (current and past REACH recipients can be found at: https://www.cdc.gov/nccdphp/dnpao/state-local-programs/reach/index.htm); or

c. Be a partner organization, part of a partner network, or coalition members that collaborated on REACH-related work with a current or previously funded REACH recipient;

(3) Shall not have been a REACH Lark Award Challenge recipient in any previous year;

(4) Shall be either:

a. A U.S. citizen or legal permanent resident, eighteen years of age or older, if the nominee is an individual or group of individuals; or

b. Incorporated in and maintain a primary place of business in the United States, if the nominee is an entity; where the United States means a State, the District of Columbia, the Commonwealth of Puerto Rico, and any other territory or possession of the United States;

(5) Shall not be a federal entity or federal employee acting within the scope of their employment;

(6) Shall not be an employee of or contractor of CDC;

(7) Shall not use federal funds from a grant or cooperative agreement to develop COMPETES Act challenge applications for this challenge, if the applicant is a federal grantee;

(8) Shall not use federal funds from a contract to develop COMPETES Act challenge applications or to fund efforts in support of a COMPETES Act challenge submission, if the applicant is a federal contractor;

(9) Shall not be deemed ineligible because an individual or team applicant or nominee used federal facilities or consulted with federal employees during a competition if the facilities and employees are made available to all individuals and entities participating in the competition on an equitable basis.

(10) By participating, the applicant represents, warrants, and agrees that the entry contains accurate information. If an applicant is nominating another individual, organization, community coalition (e.g., not self-nominating), the applicant must provide acknowledgement in writing that the nominee consents to being nominated.

(11) Applicants and nominees must agree to be recognized if selected as a winner and agree to participate in an interview with CDC staff to provide information that may be used by CDC staff to write a success story that describes the intervention(s) that advanced health equity. Winners and their intervention(s) may be recognized, and the success story may be made public, including but not limited to press releases, the challenge website, and Division of Nutrition, Physical Activity, and Obesity and CDC Resources, and other publicly available platforms (e.g., social media, CDC website, etc.).

(12) By participating in this challenge, applicants agree to assume any and all risks related to participating in the challenge. Applicants also agree to waive claims against the federal government and its related entities, except in the case of willful misconduct, when participating in the challenge, including claims for injury; death; damage; or loss of property, money, or profits; and including those risks caused by negligence or other causes.

Applicants and nominees who are not selected for the award may be asked for permission for CDC to share information about successful interventions that promoted health equity on CDC's Division of Nutrition, Physical Activity, and Obesity website, the CDC website, social media, or other platform generally with appropriate attribution to the applicant or nominee.

Registration Process for Participants

To participate and submit an application, interested parties should go to https://www.challenge.gov. The application requires responses to questions related to eligibility, followed by three questions related to the nominee's work; the answer to each of the three questions should be no longer than 300 words. Applicants can also submit supplemental materials that demonstrate the nominee's work and/or impact. Supplemental materials are not to exceed 10 total pages. Examples of supplementary materials include PDF of online content and other forms of written materials (e.g., news articles, evaluation reports, or success stories).

Amount of the Prize

No cash prize will be awarded. A maximum of two applicants (one individual and one organization/community coalition) associated with the REACH program will be a recipient of the 2024 REACH Lark Award. Recipients of the REACH Lark Award will receive a plaque (“Winner”). While the winners may be invited to meetings by CDC, attendance at such events is not required as a condition of accepting the award.

Basis Upon Which Winners Will Be Selected

CDC's Division of Nutrition, Physical Activity, and Obesity's (DNPAO's) Office of Policy Partnerships and Communication (OPPC) will select three to five judges based on their knowledge of the REACH program, the science and practice of achieving health equity, and the elimination of health disparities at the national, state, or local levels. Judges may include REACH program senior advisors, other CDC employees, or nonfederal individuals from outside the agency. Participating as a previous REACH Lark Award judge does not disqualify an individual or organization from being an award recipient for the 2024 challenge. Conflict of interest issues related to Judges will be handled, per the COMPETES Act (15 U.S.C. 3719(k)(2)).

Judges will review the applications and select up to two award recipients (one individual and one organization or community coalition) from all eligible entries based on:

(1) Community Context and Challenge(s)—The following questions address the challenges of the community in which the nominee works/worked. (10 points)

(a) Describe the priority population with whom the nominee worked. (5 points)

Scoring will be based on the extent to which the nominee worked to address chronic disease risk factors among priority populations experiencing health disparities for chronic diseases including the following: Black or African American people, American Indian/Alaska Native people, Hispanic or Latino people, Asian people, and/or Native Hawaiian/Other Pacific Islander people.

(b) Describe the preventable risk factors associated with chronic diseases (hypertension, heart disease, type 2 diabetes, and/or obesity) that the nominee addressed. (5 points)

Scoring will be based on the extent to which the risk factor(s) addressed align with the REACH program's goals of advancing health equity. Information about past REACH programs can be found here: https://www.cdc.gov/nccdphp/dnpao/state-local-programs/reach/past_programs/index.htm. Examples of risk factors that align with the goals of the REACH program include poor nutrition, physical inactivity, inadequate access to clinical services, and tobacco use.

(c) Describe any relevant additional community characteristics/challenges that will help the judges understand the context of the community in which the nominee worked. (Not scored).

(2) Strategies—The following questions pertain to strategies used by the nominee to address the challenge(s) discussed above. (30 points)

(a) Describe the strategies that the nominee used to address challenges and how the nominee's work aligns with the CDC REACH program's goals of advancing health equity. (15 points)

Scoring will be based on the extent to which the nominee's work contributed to developing, implementing, and/or evaluating strategies that were:

(1) Evidence-based or practice-based (5 points)

(2) Culturally tailored and designed to reduce health inequities (5 points)

(3) Supportive of policy, systems, and/or environmental change (5 points)

(b) Describe how the nominee's work actively and effectively engaged members of the community and partners across different sectors, such as, but not limited to transportation, healthcare, agriculture, emergency food systems, and faith-based and community-based organizations. (15 points)

Scoring will be based on the extent to which the nominee engaged members of the community and partners across different sectors in identifying and implementing strategies.

(3) Impact—The following questions pertain to the impact of the nominee's work on addressing preventable risk factors in a population(s)/group(s) disproportionately affected by chronic diseases. (20 points)

(a) Describe the impact of the nominee's work on addressing preventable risk factors in populations/groups disproportionately affected by chronic diseases. (20 points)

(i) To the extent possible, provide quantitative data that support impact statements (e.g., number of people served by a strategy, number of people reporting a behavior change, health outcome data if available, etc.).

(ii) Provide qualitative data from community members, partners, co-workers, etc., (e.g., success stories, testimonials, etc.) that provide insight into the impact of nominee's work.

Scoring will be based on the extent to which the nominee's work resulted in progress toward addressing preventable risk factors in the population(s)/group(s) identified in Section 1. While quantitative data is not required, nominations that include quantitative and qualitative data are more likely to paint a more complete picture of the nominee's contributions and their impact on the community.

Judges will use the point system outlined in the judging criteria above to select the winner(s).

Additional Information

Information about the winners, such as the name and location of the individual, organization, or community coalition, priority population served, and health outcomes addressed may be shared through press releases, the challenge website, and Division of Nutrition, Physical Activity, and Obesity and CDC Resources, and other publicly available platforms (e.g., social media, CDC website, etc.) Details regarding the winners and their applications may be shared with the public as part of recognition efforts.

The award is named in honor of Lark Galloway-Gilliam, the founding Executive Director of Community Health Councils, Inc. (CHC). CHC began in 1992 to support planning, resource development, and policy education in response to the growing health crisis in the South Los Angeles area and other under-resourced and marginalized communities throughout Los Angeles County. Lark led the CHC team to engage communities and strengthen the connections among organizations to improve health, eliminate disparities, and advance health equity. Lark also served in several leadership roles, including the first president of the National REACH Coalition, the MLK Medical Center Advisory Board, and the Institute for People, Place, and Possibility (IP3) Board of Directors for Community Commons.

Compliance with Rules and Contacting Challenge Winners

Applicants, nominees, and the REACH Lark Award Challenge winners must comply with all terms and conditions of these Official Rules and winning is contingent upon fulfilling all requirements herein. The winners will be notified by email, telephone, or mail after the date of the judging.

Privacy

If applicants choose to provide HHS/CDC with personal information by registering or filling out the application form through the Challenge.gov website, that information will only be used to respond to contestants in matters regarding their submission, announcements of entrants, finalists, and winners of the contest. Information is not collected for commercial marketing. Winners are permitted to cite that they won this contest.

General Conditions

CDC reserves the right to cancel, suspend, and/or modify the Challenge, or any part of it, for any reason, at CDC's sole discretion.

Participation in this Challenge constitutes an applicants' full and unconditional agreement to abide by the Challenge's Official Rules found at https://www.Challenge.gov.

Authority: 15 U.S.C. 3719.

Noah Aleshire,
Chief Regulatory Officer, Centers for Disease Control and Prevention.

[FR Doc. 2024-08899 Filed 4-24-24; 8:45 am]

BILLING CODE 4163-18-P